DEPARTMENT OF ENERGY

Federal Energy Regulatory Commission

[Docket No. IC14-10-000]

Commission Information Collection Activities (FERC-725E, FERC-583, FERC-512, and FERC-588); Comment Request

AGENCY: Federal Energy Regulatory Commission.

ACTION: Comment request.

SUMMARY: In compliance with the requirements of the Paperwork Reduction Act of 1995, 44 USC 3507(a)(1)(D), the Federal Energy Regulatory Commission (Commission or FERC) is submitting its information collections FERC-725E (Mandatory Reliability Standards—WECC), FERC-583 (Annual Kilowatt Generating Report), FERC-512 (Application for Preliminary Permit), FERC-588 (Emergency Natural Gas Transportation, Sale, and Exchange) to the Office of Management and Budget (OMB) for review of the information collection requirements. Any interested person may file comments directly with OMB and should address a copy of those comments to the Commission as explained below. The Commission previously issued a Notice in the Federal Register (79 FR 19888, 4/2/2014) requesting public comments. The Commission received no comments on the FERC-725E, FERC-583, FERC-512, or FERC-588 and is making this notation in its submittal to OMB.

DATES: Comments on the collection of information are due by August 20, 2014.

ADDRESSES: Comments filed with OMB, identified by the OMB Control No. 1902-0073 (FERC-512), 1902-0136 (FERC-583), 1902-0144 (FERC-588), or 1902-0246 (FERC-725E) and should be sent via email to the Office of Information and Regulatory Affairs: oira_submission@omb.gov. Attention: Federal Energy Regulatory Commission Desk Officer. The Desk Officer may also be reached via telephone at 202-395-4718.

A copy of the comments should also be sent to the Commission, in Docket No. IC14-10-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-725E, Mandatory Reliability Standards for the Western Electric Coordinating Council

OMB Control No.: 1902-0246.

Abstract: The information collected by the FERC-725E (OMB Control No. 1902-0246) is required to implement the statutory provisions of section 215 of the Federal Power Act (FPA) (16 U.S.C. 824o). Section 215 of the FPA buttresses the Commission's efforts to strengthen the reliability of the interstate grid through the grant of new authority by providing for a system of mandatory Reliability Standards developed by the Electric Reliability Organization. Reliability Standards that the ERO proposes to the Commission may include Reliability Standards that are proposed to the ERO by a Regional Entity.¹ A Regional Entity is an entity that has been approved by the Commission to enforce Reliability Standards under delegated authority from the ERO.² On June 8, 2008 in an adjudicatory order, the Commission approved eight regional Reliability Standards submitted by the ERO that were proposed by the Western Electricity Coordinating Council (WECC).³

¹ 16 U.S.C. 824o(e)(4).

² 16 U.S.C. 824o(a)(7) and (e)(4).

³ 72 FR 33462, June 18, 2007.

WECC is responsible for coordinating and promoting electric system reliability. In addition to promoting a reliable electric power system in the Western Interconnection, WECC supports efficient competitive power markets, ensures open and non-discriminatory transmission access among members, and provides a forum for resolving transmission access disputes plus the coordination of operating and planning activities of its members.

There are eight Reliability Standards currently applicable in the WECC region. These standards generally require entities to document compliance with substantive requirements, retain documentation, and submit reports to WECC.

• BAL-002-WECC-2 requires balancing authorities and reserve sharing groups to document compliance with the contingency reserve requirements described in the standard.

• BAL-004-WECC-02 requires balancing authorities to document that time error corrections and primary inadvertent interchange payback were conducted according the requirements in the standard.

• FAC-501-WECC-1 requires transmission owners with certain transmission paths to have a transmission maintenance and inspection plan and to document maintenance and inspection activities according to the plan.

• IRO-006-WECC-1 requires balancing authorities and reliability coordinators document actions taken to mitigate unscheduled flow.

• PRC-004-WECC-1 requires transmission owners, generator owners and transmission operators to document their analysis and/or mitigation due to certain misoperations on major transfer paths. This standard requires that documentation be kept for six years.

• TOP-007-WECC-1 requires transmission operators to document that when actual flows on major transfer paths exceed system operating limits their schedules and actual flows are not exceeded for longer than a specified time.

• VAR-002-WECC-1 requires generator operators and transmission operators to provide quarterly reports to the compliance monitor and have evidence related to their synchronous generators, synchronous condensers, and automatic voltage regulators.

• VAR-501-WECC-1 requires generator operators to provide quarterly reports to the compliance monitor and have evidence regarding operation of their power system stabilizers.

The information generated by these standards generally serves to ensure entities are complying with applicable Reliability Standards.

Type of Respondents: Balancing authorities, reserve sharing groups, transmission owners, reliability coordinators, transmission operators, generator operators.

Estimate of Annual Burden: The Commission estimates the annual public reporting burden for the information collection as: ⁴

⁴ The initial public notice did not include the dollar figures associated with the burden hours below. The burden hours have not been modified since the issuance of the initial public notice.

⁵ Number of respondents derived from the NERC Compliance Registry as of February 25, 2014.

⁶ The total annual cost is derived from salary figures from the Bureau of Labor Statistics for three positions involved in the reporting and record-keeping associated with this collection. These figures include salary (http://bls.gov/oes/current/naics2_22.htm) and other associated benefits (http://www.bls.gov/news.release/ecec.nr0.htm):

• Manager: $84.72/hour.

• Engineer: $60.70/hour.

• File Clerk: $28.93/hour.

This wage for the reporting requirements is an average of a manager and engineer wages ($72.71). The wage for recordkeeping requirements is based on the File Clerk position.

⁷ Based on estimates in Order 751, Docket No. RM09-9-000.

⁸ Based on burden estimates taken from the Order in Docket No. RR07-11-000 P. 130.

⁹ Id.

FERC-725E, Mandatory Reliability Standards for the Western Electric Coordinating Council
FERC data collection | Number of respondents ⁵ | Annual number of responses per respondent | Average burden hours & cost per response ⁶ | Total annual burden hours & total annual cost
| (1) | (2) | (3) | (1)*(2)*(3)
FERC-725E
Reporting:
Balancing Authorities | 34 | 1 | 21, $1,527 | 714, $51,918
Generator Operators | 228 | 1 | 10, $727 | 2,280, $165,756
Transmission Operators applicable to standard VAR-002 ⁷ | 86 | 4 | 10, $727 | 3,440, $250,088
Transmission Operators that operate qualified transfer paths ⁸ | 9 | 3 | 40, $2,908 | 1,080, $78,516
Transmission Owners that operate qualified transfer paths ⁹ | 5 | 3 | 40, $2,908 | 600, $43,620
Reliability Coordinators | 1 | 1 | 1, $73 | 1, $73
Reserve Sharing Group | 3 | 1 | 1, $73 | 3, $219
Total |  |  |  | 8,118, $590,190

Record-keeping ¹⁰ | Balancing Authorities |  | 71, $2,054
| Balancing Authorities (IRO-006) ¹¹ |  | 34, $984
| Generator Operators |  | 228, $6,596
| Transmission Operator (VAR-002) |  | 344, $9,952
| Transmission Operator |  | 108, $3,124
| Transmission Owner |  | 60, $1,736
| Reliability Coordinator ¹² |  | 34, $984
Total |  |  | 879, $25,430

FERC-583, Annual Kilowatt Generating Report (Annual Charges)

OMB Control No.: 1902-0136.

¹⁰ Based on 10% total annual burden hours per response.

¹¹ Based on record keeping hours for Balancing Authorities in Order 746 in Docket No. RM09-19-000 implementing IRO-006-WECC-1.

¹² Based on record keeping hours in Order 746 in Docket No. RM09-19-000.

¹³ Based on data from Fiscal Year 2013, there were 517 projects, owned by 241 FERC-regulated private and public licensees. Many of the licensees owned multiple projects.

¹⁴ The estimates for cost per response are derived using the following formula: Average Burden Hours per Response * $70.50 per hour.

Abstract: The FERC-583 is used by the Commission to implement the statutory provisions of section 10(e) of the Federal Power Act (FPA) (16 U.S.C. 803(e)), which requires the Commission to collect annual charges from hydropower licensees for, among other things, the cost of administering Part I of the FPA and for the use of United States dams. In addition, section 3401 of the Omnibus Budget Reconciliation Act of 1986 (OBRA) authorizes the Commission to “assess and collect fees and annual charges in any fiscal year in amounts equal to all of the costs incurred by the Commission in that fiscal year.” The information is collected annually and used to determine the amounts of the annual charges to be assessed licensees for reimbursable government administrative costs and for the use of government dams. The Commission implements these filing requirements in the Code of Federal Regulations (CFR) under 18 CFR Part 11.

Type of Respondent: FERC-regulated private and public hydropower licensees.

Estimate of Annual Burden: The Commission estimates the annual public reporting burden for the information collection as:

FERC-583, Annual Kilowatt Generating Report
[Annual Charges]
Number of respondents ¹³ | Annual number of responses per respondent | Total number of responses | Average burden & cost per response ¹⁴ | Total annual burden hours & total annual cost | Cost per respondent ($)
(1) | (2) | (1)*(2)=(3) | (4) | (3)*(4)=(5) | (5)÷(1)
517 | 1 | 517 | 2, $141 | 1,034, $72,897 | $141

FERC-512, Application for Preliminary Permit

OMB Control No.: 1902-0073.

Abstract: The Commission uses the information collected under the requirements of FERC-512 to implement the statutory provisions of sections 4(f), 5 and 7 of the Federal Power Act (FPA).¹⁵ The purpose of obtaining a preliminary permit is to maintain priority of the application for a license for a hydropower facility while the applicant conducts surveys to prepare maps, plans, specifications and estimates; conducts engineering, economic and environmental feasibility studies; and making financial arrangements. The conditions under which the priority will be maintained are set forth in each permit. During the term of the permit, no other application for a preliminary permit or application for a license submitted by another party can be accepted. The term of the permit is three years. The information collected under the designation FERC-512 is in the form of a written application for a preliminary permit which is used by Commission staff to determine an applicant's qualifications to hold a preliminary permit, review the proposed hydro development for feasibility and to issue a notice of the application in order to solicit public and agency comments. The Commission implements these mandatory filing requirements in the Code of Federal Regulations (CFR) under 18 CFR 4.31-.33, 4.81-.83.

¹⁵ 16 U.S.C. 797, 798, & 800.

Type of Respondents: Hydropower facilities.

Estimate of Annual Burden: The Commission estimates the annual public reporting burden for the information collection as:

FERC-512: Application for Preliminary Permit
Number of respondents | Annual number of responses per respondent | Total number of responses | Average burden/$ per response ¹⁶ | Total annual burden hours (total annual cost) | Cost per respondent ($)
(1) | (2) | (1)*(2)=(3) | (4) | (3)*(4)=(5) | (5)÷(1)
125 | 1 | 125 | 37,$2,608.50 | 4,625, $326,062.50 | $2,608.50

FERC-588, Emergency Natural Gas Transportation, Sale, and Exchange Transportation

¹⁶ The estimates for cost per response are derived using the following formula: Average Burden Hours per Response * $70.50 per hour.

OMB Control No.: 1902-0144.

Abstract: The Commission uses the information collected under the requirements of FERC-588 to implement the statutory provisions of sections 7(c) of the Natural Gas Act (NGA) (P.L. 75-688) (15 USC 717-717w) and provisions of the Natural Gas Policy Act of 1978 (NGPA), 15 USC. 3301-3432. Under the NGA, a natural gas company must obtain Commission approval to engage in the transportation, sale or exchange of natural gas in interstate commerce. However, section 7(c) exempts from certificate requirements “temporary acts or operations for which the issuance of a certificate will not be required in the public interest.” The NGPA also provides for non-certificated interstate transactions involving intrastate pipelines and local distribution companies.

A temporary operation, or emergency, is defined as any situation in which an actual or expected shortage of gas supply would require an interstate pipeline company, intrastate pipeline, local distribution company, or Hinshaw pipeline to curtail deliveries of gas or provide less than the projected level of service to the customer. The natural gas companies which provide the temporary assistance to the companies which are having the “emergency” must file the necessary information described in Part 284, Subpart I of the Commission's Regulations with the Commission so that it may determine if their assisting transaction/operation qualifies for exemption. The assisting company may or may not be under the Commission's jurisdiction and if their assisting actions qualify for the exemption, they will not become subject to the Commission's jurisdiction for such actions.

A report within forty-eight hours of the commencement of the transportation, sale or exchange, a request to extend the sixty-day term of the emergency transportation, if needed, and a termination report are required. The data required to be filed for the forty-eight hour report is specified by 18 CFR 284.270.

Type of Respondents: Natural Gas Pipelines.

Estimate of Annual Burden: The Commission estimates the annual public reporting burden for the information collection as:

¹⁷ The estimates for cost per response are derived using the following formula: Average Burden Hours per Response * $70.50 per hour.

FERC-588: Emergency Natural Gas Transportation, Sale, and Exchange Transportation
Number of respondents | Annual number of responses per respondent | Total number of responses | Average burden/$ per response ¹⁷ | Total annual burden hours (total annual cost) | Cost per respondent ($)
(1) | (2) | (1)*(2)=(3) | (4) | (3)*(4)=(5) | (5)÷(1)
8 | 1 | 8 | 10, $705 | 80, $5,640 | $705

Dated: July 11, 2014.
Kimberly D. Bose,
Secretary.

[FR Doc. 2014-17044 Filed 7-18-14; 8:45 am]

BILLING CODE 6717-01-P